DEPARTMENT OF ENERGY

Federal Energy Regulatory Commission

[Docket No. ER03-34-000, et al.]

FPL Energy Hancock County Wind, LLC, et al.; Electric Rate and Corporate Regulation Filings

October 16, 2002.

The following filings have been made with the Commission. The filings are listed in ascending order within each docket classification.

1. FPL Energy Hancock County Wind, LLC

[Docket No. ER03-34-000]

Take notice that on October 11, 2002, FPL Energy Hancock County Wind, LLC tendered for filing an application for authorization to sell energy and capacity at market-based rates pursuant to section 205 of the Federal Power Act.

Comment Date: November 1, 2002.

2. PEC Energy Marketing, Inc.

[Docket No. ER03-35-000]

Take notice that on October 11, 2002, PEC Energy Marketing, Inc. filed a Notice of Cancellation of its Rate Schedule FERC No. 1.

Comment Date: November 1, 2002.

3. Calpine Northbrook Energy Marketing, LLC

[Docket No. ER03-36-000]

Take notice that on October 11, 2002, Calpine Northbrook Energy Marketing, LLC filed a Notice of Succession to reflect that SkyGen Energy Marketing, LLC has changed its name to Calpine Northbrook Energy Marketing, LLC, and an amendment to its rate schedule.

Comment Date: November 1, 2002.

4. Sierra Pacific Power Company and Nevada Power Company

[Docket No. ER03-37-000]

Take notice that on October 11, 2002, Sierra Pacific Power Company (Sierra) and Nevada Power Company (Nevada Power ) tendered for filing pursuant to Section 205 of the Federal Power revised Service Schedule Nos. 1-7 to their Open Access Transmission Tariff (OATT). This filing is intended to update the ancillary services rates included in the OATT. Sierra and Nevada Power request that the revised tariff be made effective on January 1, 2003.

Comment Date: November 1. 2002.

5. MidAmerican Energy Company

[Docket No. ES03-4-000]

Take notice that on October 7, 2002, MidAmerican Energy Company (MidAmerican) filed an application under section 204 of the Federal Power Act seeking authorization to issue various forms of long-term debt with a principal amount not to exceed $700 million during a two-year period.

MidAmerican also requests a waiver of the Commission's competitive bidding and negotiated placement requirements at 18 CFR 34.2.

Comment Date: November 6, 2002.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Linwood A. Watson, Jr.,
Deputy Secretary.

[FR Doc. 02-27052 Filed 10-24-02; 8:45 am]

BILLING CODE 6717-01-P